DEPARTMENT OF AGRICULTURE

Agricultural Marketing Service

[Docket # AMS-LS-07-0064; LS-07-10]

Notice of Request for Extension and Revision of a Currently Approved Information Collection.

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget (OMB) for an extension and revision to the currently approved information collection “Referendum for the Lamb Promotion, Research and Information Order (Order).” Once approved, AMS will request that OMB merge this information collection with the information collection for National Research, Promotion, and Consumer Information Programs.

DATES: Comments on this notice must be received by July 31, 2007 to be assured of consideration.

Additional Information or Comments: Interested persons are invited to submit written comments concerning this notice of request. Comments must be sent to Kenneth R. Payne, Chief, Marketing Programs Branch, Livestock and Seed Program, AMS, USDA, Room 2628-S, STOP 0251, 1400 Independence Avenue, SW., Washington, DC 20250-0251; Fax: (202) 720-1125; or online at www.regulations.gov. All comments should reference the docket number, the date, and the page number of this issue of the Federal Register. Comments will be available for public inspection via the internet at www.regulations.gov or during regular business hours at the same address.

SUPPLEMENTARY INFORMATION: Title: Lamb Promotion, Research, and Information Program.

OMB Number: 0581-0227.

Expiration Date of Approval: December 31, 2007.

Type of Request: Extension and revision of a currently approved information collection.

Abstract: The information collection request is essential to carry out the intent of the Commodity Promotion, Research, and Information Act of 1996 (Act) and the Order. According to the Order, the Secretary of Agriculture (Secretary) shall conduct a referendum among persons subject to assessments who, during a representative period, have engaged in the production, feeding, handling, or slaughter of lamb or the exportation of lamb or lamb products. The purpose of the referendum is to determine whether the persons subject to assessments favor the continuation, suspension, or termination of the Order. In accordance with the Act, a referendum must be held no later than 7 years after assessments begin, but may also be held at the request of the American Lamb Board, at the request of at least 10 percent or more of lamb producers, feeders, first handlers, and exporters eligible to vote, or by the Secretary. The form requires the minimum information necessary to effectively carry out the requirements of a referendum, and their use is necessary to fulfill the intent of the Act. Such information can be supplied without data processing equipment or outside technical expertise. In addition, there are no additional training requirements for individuals filling out the forms. The forms are simple, easy to understand, and place as small a burden as possible on the person required to file the information.

The timing and frequency of collecting information are intended to meet the needs of the industry while minimizing the amount of work necessary to fill out the required reports. In addition, the information included on this form is not available from other industry sources because such information relates specifically to individuals or organizations subject to the provisions of the Act and the Order.

Estimate of Burden: Public reporting burden for this collection of information is estimated to average 0.03 hours per response.

Respondents: Producers, seedstock producers, market agencies, first handlers, feeders, and exporters.

Estimated Number of Respondents: 69,761.

Estimated Number of Responses per Respondent: 1.

Estimated Total Annual Burden on Respondents: 2,093 hours.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Comments may be sent to Kenneth R. Payne, Chief, Marketing Programs Branch, Livestock and Seed Program, AMS, USDA, Room 2628-S, STOP 0251, 1400 Independence Avenue, SW., Washington, DC 20250-0251; Fax: (202) 720-1125; or online at www.regulations.gov. All comments should reference the docket number, the date, and the page number of this issue of the Federal Register. Comments will be available for public inspection via the internet at www.regulations.gov or during regular business hours. All responses to this notice will be summarized and included in the request for OMB approval. All comments will become a matter of public record.

Dated: May 25, 2007.
Lloyd C. Day,
Administrator, Agricultural Marketing Service.

[FR Doc. E7-10527 Filed 5-31-07; 8:45 am]

BILLING CODE 3410-02-P